DEPARTMENT OF THE INTERIOR

Bureau of Land Management

Notice of Application for Withdrawal and Opportunity for Public Meeting; Idaho (IDI 38117)

AGENCY: Bureau of Land Management, Interior.

ACTION: Notice.

SUMMARY: The United States Department of Agriculture, Forest Service (USFS) has filed an application with the Bureau of Land Management (BLM) requesting the Secretary of the Interior to withdraw approximately 107.02 acres of National Forest System land from the mining laws to protect the Dump Creek Diversion Ditch within the Salmon National Forest in Idaho. This notice temporarily segregates the land for up to 2 years from the United States mining laws while the application is being processed. This notice also gives an opportunity for the public to comment on the application and to request a public meeting.

DATES: Comments and public meeting requests must be received by September 22, 2016.

ADDRESSES: Comments and public meeting requests should be sent to the Idaho State Director, BLM, 1387 S. Vinnell Way, Boise, ID 83709.

FOR FURTHER INFORMATION CONTACT: Jeff Cartwright, BLM Idaho State Office 208-373-3885 or Sherry Stokes-Wood, Lands, USFS Intermountain Regional Office 801-625-5800. Persons who use a telecommunications device for the deaf (TDD) may call the Federal Information Relay Service (FIRS) at 1-800-877-8339 to contact either of the above individuals. The FIRS is available 24 hours a day, 7 days a week. You will receive a reply during normal business hours.

SUPPLEMENTARY INFORMATION: The USFS has filed an application with the BLM, pursuant to Section 204 of the Federal Land Policy and Management Act of 1976, 43 U.S.C. 1714, requesting that the Secretary of the Interior withdraw, for a 20-year period and subject to valid existing rights, the National Forest System land described below from location and entry under the United States mining laws. The land will remain open to discretionary uses.

Salmon National Forest

Boise Meridian

T. 23 N., R. 20 E.,

Secs. 12, 13, and 24.

Beginning at USLM No. 4, Eureka Mining District, said Monument No. 4 being more particularly located in the unsurveyed NW1/4SE1/4 Section 24. From point of beginning, North 4°32′52″ East 5061.93 feet to Corner No. 1, the True Point of Beginning, said Corner being identical with Corner No. 1 Lemhi Gold Placer, as shown on Moose Creek Hydraulic Placer Mineral Survey Plat No. 3057. Thence North 0°01′ West, 4109.7 feet along the west line of Lemhi Gold Placer to a point at the intersection of line 1-2 of Rocky Mountain Placer, MS No. 1867, which point lies North 58°56′ West, 58.1 feet from Corner No. 1 of MS No. 1867 and said point being Corner No. 2 of herein described lands; Thence North 58°56′ West, along line 1-2 of MS No. 1867 for a distance of 817.35 feet to Corner No. 3; Thence South 0°01′ East, 4529.24 feet to Corner No. 4; Thence South 8°33′ East, 1877.1 feet to Corner No. 5; Thence South 89°49′ East, 883 feet to Corner No. 6, said Corner No. 6 being identical with Corner No. 4 of Moose Creek Hydraulic Placer MS 3057; Thence North 8°33′ West, 1877.1 feet along the west line of said Moose Creek Hydraulic Placer to Corner No. 7 said Corner No. 7 being identical with Corner No. 5 of MS No. 3057; Thence North 89°49′ West, 183 feet to Corner No. 1, the True Point of Beginning.

The area described contains 107.02 acres in Lemhi County.

The purpose of the withdrawal is to ensure the continued conservation of the aquatic and riparian habitats, and to protect the USFS watershed investments in the Salmon River Drainage.

The use of a right-of-way, interagency agreement, or cooperative agreement would not adequately protect the land from nondiscretionary uses which could result in a permanent loss of significant values and capital investments.

There are no suitable alternative sites with equal or greater benefit to the government and the structures needing protection already exist on this site. It is not economically feasible to construct the necessary watershed protection dam and other related improvements on alternative sites because of the topography and hydrologic conditions.

The USFS would not need to acquire water rights to fulfill the purpose of the requested withdrawal.

Records related to the application may be examined by contacting the Salmon-Challis National Forest, Forest Supervisor's Office, at 1206 S. Challis St. Salmon, ID 83467, or by contacting Jeff Cartwright at the above BLM address or by phone number.

For a period until September 22, 2016, all persons who wish to submit comments, suggestions, or objections in connection with the withdrawal application may present their views in writing to the BLM State Director at the address indicated above.

Comments, including names and street addresses of respondents, will be available for public review during regular business hours. Before including your address, phone number, email address, or other personal identifying information in your comment, you should be aware that your entire comment—including your personal identifying information—may be made publicly available at any time. While you may ask us in your comment to withhold your personal identifying information from public review, we cannot guarantee that we will be able to do so.

Notice is hereby given that an opportunity for a public meeting is afforded in connection with the withdrawal application. All interested persons who desire a public meeting for the purpose of being heard on the withdrawal application must submit a written request to the BLM State Director at the address indicated above by September 22, 2016. Upon determination by the authorized officer that a public meeting will be held, a notice of the time and place will be published in the Federal Register and a newspaper having a general circulation in the vicinity of the land at least 30 days before the scheduled date of the meeting.

For a period until June 25, 2018, the National Forest System land described in this notice will be segregated from location and entry under the United States mining laws, but not from discretionary uses, unless the application is denied or canceled or the withdrawal is approved prior to that date.

The application will be processed in accordance with the regulations set forth in 43 CFR part 2300.

James M. Fincher,
Chief, Branch of Lands, Minerals and Water Rights, Resource Services.

[FR Doc. 2016-15015 Filed 6-23-16; 8:45 am]

BILLING CODE 3411-15-P